DEPARTMENT OF ENERGY

Federal Energy Regulatory Commission

Combined Notice of Filings #1

Take notice that the Commission received the following exempt wholesale generator filings:

Docket Numbers: EG26-140-000.

Applicants: BNB Tennyson Solar LLC.

Description: BNB Tennyson Solar LLC submits Notice of Self-Certification of Exempt Wholesale Generator Status.

Filed Date: 1/28/26.

Accession Number: 20260128-5207.

Comment Date: 5 p.m. ET 2/18/26.

Docket Numbers: EG26-141-000.

Applicants: 26SB 8me LLC.

Description: 26SB 8me LLC submits Notice of Self-Certification of Exempt Wholesale Generator Status.

Filed Date: 1/28/26.

Accession Number: 20260128-5209.

Comment Date: 5 p.m. ET 2/18/26.

Take notice that the Commission received the following electric rate filings:

Docket Numbers: ER24-1163-002.

Applicants: CPV Backbone Solar, LLC.

Description: Notice of Change in Status of CPV Backbone Solar, LLC.

Filed Date: 1/27/26.

Accession Number: 20260127-5298.

Comment Date: 5 p.m. ET 2/17/26.

Docket Numbers: ER25-198-002.

Applicants: Power Authority of the State of New York, New York Independent System Operator, Inc.

Description: Compliance filing: New York Independent System Operator, Inc. submits tariff filing per 35: NYPA Compliance: Base ROE Settlement to be effective 11/1/2024.

Filed Date: 1/28/26.

Accession Number: 20260128-5236.

Comment Date: 5 p.m. ET 2/18/26.

Docket Numbers: ER26-37-001.

Applicants: Nighthawk Energy Storage, LLC.

Description: Notice of Non-Material Change in Status of Nighthawk Energy Storage, LLC.

Filed Date: 1/27/26.

Accession Number: 20260127-5297.

Comment Date: 5 p.m. ET 2/17/26.

Docket Numbers: ER26-103-001.

Applicants: Six One Commodities LLC.

Description: Tariff Amendment: Response to Deficiency Letter and Request for Expedited Comment Deadline to be effective 12/10/2025.

Filed Date: 1/28/26.

Accession Number: 20260128-5201.

Comment Date: 5 p.m. ET 2/18/26.

Docket Numbers: ER26-628-001.

Applicants: Midcontinent Independent System Operator, Inc., Sam Houston Electric Cooperative, Inc.

Description: Tariff Amendment: Sam Houston Electric Cooperative, Inc. submits tariff filing per 35.17(b): 2026-01-28_Amendment for SHECO TO Integration Attachment O to be effective 2/1/2026.

Filed Date: 1/28/26.

Accession Number: 20260128-5106.

Comment Date: 5 p.m. ET 2/18/26.

Docket Numbers: ER26-702-001.

Applicants: Mid-Atlantic Interstate Transmission, LLC.

Description: Tariff Amendment: Amendment to Amended IA, SA No. 4578 in ER26-702 to be effective 2/9/2026.

Filed Date: 1/28/26.

Accession Number: 20260128-5128.

Comment Date: 5 p.m. ET 2/18/26.

Docket Numbers: ER26-858-000.

Applicants: Chula Vista Energy Center 2, LLC.

Description: Report Filing: Amendment to MBR Application to be effective N/A.

Filed Date: 1/22/26.

Accession Number: 20260122-5064.

Comment Date: 5 p.m. ET 2/12/26.

Docket Numbers: ER26-1074-000.

Applicants: Chalan CA Solar Storage, LLC.

Description: Supplement to 01/16/2026, tariff filing.

Filed Date: 1/20/26.

Accession Number: 20260120-5299.

Comment Date: 5 p.m. ET 2/10/26.

Docket Numbers: ER26-1138-000.

Applicants: Consumers Energy Company.

Description: Cost Recover Filing of Consumers Energy Company.

Filed Date: 1/23/26.

Accession Number: 20260123-5236.

Comment Date: 5 p.m. ET 2/13/26.

Docket Numbers: ER26-1147-000.

Applicants: Idaho Power Company.

Description: 205(d) Rate Filing: SA 305, SA 306, SA 334—NITSAs Between IPC and BPA to be effective 4/1/2026.

Filed Date: 1/27/26.

Accession Number: 20260127-5261.

Comment Date: 5 p.m. ET 2/17/26.

Docket Numbers: ER26-1148-000.

Applicants: Southwest Power Pool, Inc.

Description: 205(d) Rate Filing: Western Area Power Administration—RMR Formula Rate Filing to be effective 4/1/2026.

Filed Date: 1/28/26.

Accession Number: 20260128-5066.

Comment Date: 5 p.m. ET 2/18/26.

Docket Numbers: ER26-1149-000.

Applicants: Platte River Power Authority, Southwest Power Pool, Inc.

Description: 205(d) Rate Filing: Platte River Power Authority submits tariff filing per 35.13(a)(2)(iii: Platte River Power Authority Formula Rate Filing (Zone 104) to be effective 4/1/2026.

Filed Date: 1/28/26.

Accession Number: 20260128-5086.

Comment Date: 5 p.m. ET 2/18/26.

Docket Numbers: ER26-1150-000.

Applicants: Tri-State Generation and Transmission Association, Inc., Southwest Power Pool, Inc.

Description: 205(d) Rate Filing: Southwest Power Pool, Inc. submits tariff filing per 35.13(a)(2)(iii: Tri-State Generation and Transmission Association, Inc. Formula Rate to be effective 4/1/2026.

Filed Date: 1/28/26.

Accession Number: 20260128-5122.

Comment Date: 5 p.m. ET 2/18/26.

Docket Numbers: ER26-1151-000.

Applicants: Duke Energy Ohio, Inc., Duke Energy Kentucky, Inc.

Description: 205(d) Rate Filing: Duke Energy Ohio, Inc. submits tariff filing per 35.13(a)(2)(iii: DEOK Revisions to PJM Tariff, Attachment H-22A to be effective 3/30/2026.

Filed Date: 1/28/26.

Accession Number: 20260128-5161.

Comment Date: 5 p.m. ET 2/18/26.

Docket Numbers: ER26-1152-000.

Applicants: Midcontinent Independent System Operator, Inc.

Description: 205(d) Rate Filing: 2026-01-28_SA 3795 Ameren Missouri-Kelso Solar 2nd Rev GIA (J1087) to be effective 12/31/2025.

Filed Date: 1/28/26.

Accession Number: 20260128-5180.

Comment Date: 5 p.m. ET 2/18/26.

Docket Numbers: ER26-1153-000.

Applicants: AEP Texas Inc.

Description: 205(d) Rate Filing: AEPTX-Abilene GCE Generation Interconnection Agreement to be effective 12/31/2025.

Filed Date: 1/28/26.

Accession Number: 20260128-5183.

Comment Date: 5 p.m. ET 2/18/26.

Take notice that the Commission received the following foreign utility company status filings:

Docket Numbers: FC26-1-000.

Applicants: Aurora Utilities Limited.

Description: Aurora Utilities Limited submits Notice of Self-Certification of Foreign Utility Company Status.

Filed Date: 1/28/26.

Accession Number: 20260128-5081.

Comment Date: 5 p.m. ET 2/18/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: January 28, 2026.
Carlos D. Clay,
Deputy Secretary.

[FR Doc. 2026-02007 Filed 1-30-26; 8:45 am]

BILLING CODE 6717-01-P